DEPARTMENT OF DEFENSE

Department of the Air Force

[Docket ID USAF-2009-0005]

Privacy Act of 1974; System of Records

AGENCY: Department of the Air Force, DoD.

ACTION: Notice to amend a system of records.

SUMMARY: The Department of Air Force proposes to amend a system of records to its inventory of record systems subject to the Privacy Act of 1974 (5 U.S.C. 552a), as amended.

DATES: The changes will be effective on February 23, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-6488.

SUPPLEMENTARY INFORMATION: The Department of the Air Force systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: January 13, 2009.
Morgan E. Frazier,
Alternate OSD Federal Register Liaison Officer, Department of Defense.

F036 AFPC N

System name:

Air Force Personnel Test 851, Test Answer Sheets (June 11, 1997, 62 FR 31793).

Changes:

* * * * *

System location:

Delete entry and replace with “Air Force Personnel Center, Enlisted Promotion and Military Testing Branch (HQ AFPC/DPSOE), 550 C Street West, Randolph Air Force Base, TX 78150-4711.”

Categories of individuals covered by the system:

Delete entry and replace with “Active duty airmen in grades E-4 through E-8, Senior Airman to Senior Master Sergeant.”

* * * * *

Authority for maintenance of the system:

Delete entry and replace with “10 U.S.C. 8013, Secretary of the Air Force; Air Force Instruction 36-2605, Air Force Military Personnel Testing System, Chapter 1 and Attachment 9 and E.O. 9397 (SSN).”

Purpose(s):

Delete entry and replace with “Used by Air Force Personnel Center/Enlisted Promotions (AFPC/DPSOE) to score tests. The percent correct score on the Specialty Knowledge Test, Promotion Fitness Examination and United States Air Force Supervisory Examination, are weighted factors in the Weighted Airman Promotion System to advance airmen (E-4 to E-8) to the next higher enlisted grade. The percent correct score on the United States Air Force Supervisory Examination is used as an eligibility criterion for promotion to grade E-8 and E-9.”

* * * * *

Storage:

Delete entry and replace with “Maintained in visible file binders/cabinets and electronic storage media.”

* * * * *

System manager(s) and address:

Delete entry and replace with “Chief, Air Force Personnel Center, Enlisted Promotion and Military Testing Branch (HQ AFPC/DPSOE), 550 C Street West, Randolph Air Force Base, TX 78150-4711.”

Notification Procedure:

Delete entry and replace with “Individuals seeking to determine whether this system of records contains information on themselves should address written inquiries to Chief, Air Force Personnel Center, Enlisted Promotion and Military Testing Branch (HQ AFPC/DPSOE), 550 C Street West, Randolph Air Force Base, TX 78150-4711.

Request should contain full name, address, Social Security Number (SSN) and a notary certified signature.”

Record Access Procedures:

Delete entry and replace with “Individuals seeking access to information about themselves contained in this system of records should address written inquiries to the appropriate Military Personnel Element (MPE) Enlisted Promotions Office at one of the 85 Air Force installations in Overseas or Continental United States locations.

Individual should provide their full name, address, Social Security Number and a notary certified signature.”

* * * * *

Record source categories:

Delete entry and replace with “Promotion Tests Answer Sheets are collected from all eligible active duty enlisted personnel, in the grades E-4 to E-8, Senior Airman to Senior Master Sergeant, who complete the required tests.”

* * * * *

F036 AFPC N

System name:

Air Force Personnel Test 851, Test Answer Sheets

System location:

Air Force Personnel Center, Enlisted Promotion and Military Testing Branch (HQ AFPC/DPSOE), 550 C Street West, Randolph Air Force Base, TX 78150-4711.

Categories of individuals covered by the system:

Active duty airmen in grades E-4 through E-8, Senior Airman to Senior Master Sergeant.

Categories of records in the system:

Item responses (answers) for Specialty Knowledge Tests (SKT), Promotion Fitness Examinations (PFE) and United States Air Force Supervisory Examinations (USAFSE).

Authority for maintenance of the system:

10 U.S.C. 8013, Secretary of the Air Force; Air Force Instruction 36-2605, Air Force Military Personnel Testing System, Chapter 1 and Attachment 9 and E.O. 9397 (SSN).

Purpose(s):

Used by Air Force Personnel Center/Enlisted Promotions (AFPC/DPSOE) to score tests. The percent correct score on the Specialty Knowledge Test, Promotion Fitness Examination and United States Air Force Supervisory Examination, are weighted factors in the Weighted Airman Promotion System to advance airmen (E-4 to E-8) to the next higher enlisted grade. The percent correct score on the United States Air Force Supervisory Examination is used as an eligibility criterion for promotion to grade E-8 and E-9.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of systems of records notices apply to this system.

Policies and practices for storing, retrieving, accessing, retaining, and disposing of records in the system:

Storage:

Maintained in visible file binders/cabinets and electronic storage media.

Retrievability:

Retrieved by Electronic Scanner Index Number (cross-referenced to Social Security Number).

Safeguards:

Records are accessed by person(s) responsible for servicing the record system in performance of their official duties. Records are stored in vaults.

Retention and disposal:

Maintained for 12 months following completion of promotion cycle for which member was tested, then destroyed by burning or shredding.

System manager(s) and address:

Chief, Air Force Personnel Center, Enlisted Promotion and Military Testing Branch (HQ AFPC/DPSOE), 550 C Street West, Randolph Air Force Base, TX 78150-4711.

Notification Procedure:

Individuals seeking to determine whether this system of records contains information on themselves should address written inquiries to Chief, Air Force Personnel Center, Enlisted Promotion and Military Testing Branch (HQ AFPC/DPSOE), 550 C Street West, Randolph Air Force Base, TX 78150-4711.

Request should contain full name, address, Social Security Number (SSN) and a notary certified signature.

Record Access Procedures:

Individuals seeking access to information about themselves contained in this system of records should address written inquiries to the appropriate Military Personnel Element (MPE) Enlisted Promotions Office at one of the 85 Air Force installations in Overseas or Continental United States locations.

Individual should provide their full name, address, Social Security Number and a notary certified signature.

Contesting record procedures:

The Air Force rules for accessing records, and for contesting contents and appealing initial agency determinations are published in Air Force Instruction 37-132; 32 CFR part 806b; or may be obtained from the system manager.

Record source categories:

Promotion Tests Answer Sheets are collected from all eligible active duty enlisted personnel, in the grades E-4 to E-8, Senior Airman to Senior Master Sergeant, who complete the required tests.

Exemptions claimed for the system:

Parts of this system may be exempt under 5 U.S.C. 552a(k)(6).

An exemption rule for this record system has been promulgated in accordance with the requirements of 5 U.S.C. 553(b)(1), (2), and (3), (c) and (e) and published in 32 CFR part 806b. For additional information contact the system manager.

[FR Doc. E9-1226 Filed 1-21-09; 8:45 am]

BILLING CODE 5001-06-P